DEPARTMENT OF THE INTERIOR

Bureau of Reclamation

Long-Term Experimental Plan for the Operation of Glen Canyon Dam and Other Associated Management Activities

AGENCY: Office of the Secretary, Interior.

ACTION: Notice.

SUMMARY: In a Federal Register notice published on November 6, 2006 (71 FR 64982-64983), and pursuant to section 102(2)(C) of the National Environmental Policy Act of 1969, as amended, and 40 CFR 1508.22, the Department of the Interior, acting through the Bureau of Reclamation (Reclamation), provided notice of its intent to prepare an environmental impact statement (EIS) and conduct public scoping meetings for the adoption of a Long-Term Experimental Plan for the operation of Glen Canyon Dam and other associated management activities. This Federal Register notice provides updated information and additional background on the status and development of the Long-Term Experimental Plan, as well as information regarding shorter term proposed flow experiments related to the operation of Glen Canyon Dam.

FOR FURTHER INFORMATION: Dennis Kubly, Bureau of Reclamation, telephone (801) 524-3715; faxogram (801) 524-3858; e-mail at GCDExpPlan@uc.usbr.gov.

SUPPLEMENTARY INFORMATION: In a Federal Register notice published on November 6, 2006 (71 FR 64982-64983), and pursuant to section 102(2)(C) of the National Environmental Policy Act of 1969, as amended, and 40 CFR 1508.22, the Department of the Interior, acting through Reclamation, provided notice of its intent to prepare an EIS and conduct public scoping meetings for the adoption of a Long-Term Experimental Plan for the operation of Glen Canyon Dam and other associated management activities.

In a Federal Register notice published on December 12, 2006, (71 FR 74556-74558), Reclamation provided notice of public scoping meetings on the adoption of a Long-Term Experimental Plan for the operation of Glen Canyon Dam and other associated management activities. Accordingly, public scoping meetings were held in December 2006 and January 2007. Reclamation published a March 2007 scoping report following the conclusion of the scoping process. This report is available on Reclamation's internet site at: http://www.usbr.gov/uc/rm/gcdltep/scoping/FinalScopingReport.pdf.

During 2006 and 2007, a significant volume of sediment has been carried by storms into the mainstem of the Colorado River below Glen Canyon Dam and sediment retention in the Grand Canyon below Glen Canyon Dam was higher than anticipated, leading to the largest accumulation of sediment in this reach of the Colorado River since 1998.

During this period, important new information has become available regarding the stabilizing and improving status of the endangered humpback chub. As a result, in December 2007, Reclamation re-initiated Endangered Species Act Section 7 consultation with the U.S. Fish and Wildlife Service on the operation of Glen Canyon Dam. Reclamation's December 2007 Biological Assessment filed with the U.S. Fish and Wildlife Service is available on Reclamation's Internet site at: http://www.usbr.gov/uc/envdocs/ba/gc-ExpFlow/2007BA.pdf.

The Section 7 consultation is based on a proposed short-term set of experimental flow actions to be initiated beginning in March 2008 to, in part, capitalize on a unique experimental opportunity that will utilize the recent high sediment input to the Grand Canyon. A proposed March 2008 high-flow release would build on knowledge gained through previous high flow experiments in 1996 and 2004. Beginning in September 2008, Reclamation proposes to initiate steady flow operations for a period of two months (September-October) during each of the next five years (2008 through 2012). These proposed steady flow releases would build on knowledge gained through previous steady flow experiments in 2000. These experimental high and steady flows have been designed and proposed to assist in—and assess the long term benefits of—the conservation of endangered humpback chub and fine sediment along the Colorado River downstream of Glen Canyon Dam.

As of the date of this Federal Register notice, the U.S. Fish and Wildlife Service is preparing a Biological Opinion on the proposed short-term experimental flow actions, and Reclamation is preparing an Environmental Assessment on the proposed action. A final decision on whether to conduct the proposed experimental flow actions is expected to be made in February 2008, after appropriate environmental compliance activities are complete. After completion of these ongoing environmental compliance activities, Reclamation will reassess the proposed Long-Term Experimental Plan and any other associated environmental compliance activities. The Long-Term Experimental Plan approach will then be updated to integrate any decisions that are reached regarding Reclamation's proposed short-term experimental flow actions.

Dated: February 4, 2008.
Larry Walkoviak,
Regional Director, UC Region, Bureau of Reclamation.

[FR Doc. E8-2534 Filed 2-11-08; 8:45 am]

BILLING CODE 4310-MN-P